DEPARTMENT OF ENERGY

Federal Energy Regulatory Commission

Notice Allowing Post-Technical Conference Comments

December 7, 2006.

Midwest Independent Transmission System Operator, Inc. | Docket No. ER05-6-044 Docket No. ER05-6-054 Docket No. ER05-6-055
Midwest Independent Transmission System Operator, Inc. and PJM Interconnection, L.L.C. | Docket No. EL04-135-046 Docket No. EL04-135-056 Docket No. EL04-135-057
Midwest Independent Transmission System Operator, Inc. and PJM Interconnection, L.L.C. | Docket No. EL02-111-064 Docket No. EL02-111-074 Docket No. EL02-111-075
Ameren Services Company | Docket No. EL03-212-060 Docket No. EL03-212-070 Docket No. EL03-212-071
Midwest Independent Transmission System Operator, Inc. | Docket No. ER06-18-000 Docket No. ER06-18-001 Docket No. ER06-18-002 Docket No. ER06-18-003 Docket No. ER06-18-004 Docket No. ER06-18-005
PJM Interconnection, L.L.C. | Docket No. ER06-954-000 Docket No. ER06-456-000 Docket No. ER06-1271-000

Pursuant to the Commission's September 21, 2006 order in certain of these proceedings, Midwest Independent Transmission System Operator, Inc., 116 FERC ¶ 61,260 (2006), a staff technical conference was convened on Tuesday, December 5, 2006, from 9:00 a.m. to 12:30 p.m. at the offices of the Federal Energy Regulatory Commission. The technical conference addressed issues related to the competing compliance filings submitted by the Midwest Independent Transmission System Operator, Inc. and PJM Interconnection, L.L.C. The filings propose conflicting methods for allocating to each regional transmission organization (RTO) the cost responsibility for constructing facilities within one RTO's footprint that also benefit transmission owners in the other RTO—the so-called cross-border facilities.

Take notice that the Commission will accept comments pursuant to the discussion at the technical conference. Initial comments are due no later than 5 p.m. Eastern Time on Monday, January 22, 2007. Reply comments are due no later than 5 p.m. Eastern Time on Tuesday, February 6, 2007.

For further information please contact Fernando Rodriguez at (202) 502-8231 or e-mail fernando.rodriguez@ferc.gov.

Magalie R. Salas,
Secretary.

[FR Doc. E6-21248 Filed 12-13-06; 8:45 am]

BILLING CODE 6717-01-P